DEPARTMENT OF COMMERCE

International Trade Administration

[Application No. 92-15A001]

Export Trade Certificate of Review

ACTION: Notice of Application for an amended Export Trade Certificate of Review by Aerospace Industries Association of America, Inc., Application No. 92-15A001.

SUMMARY: The Office of Trade and Economic Analysis (“OTEA”) of the International Trade Administration, Department of Commerce, received an application for an amended Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to section 302(b)(1) of the Export Trading Company Act of 1982 (15 U.S.C. 4012(b)(1)) and 15 CFR 325.6(a), which require the Secretary of Commerce to publish a summary of the application in the Federal Register, identifying the applicant and each member and summarizing the proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 92-15A001.”

The Aerospace Industries Association of America Inc. (“AIA”) original Certificate was issued on September 8, 1992 (57 FR 41920, September 14, 1992). A summary of the application follows.

Summary of the Application

Applicant: AIA, 1000 Wilson Boulevard, Suite 1700, Arlington, VA 20009.

Contact: Matthew F. Hall, General Counsel, Telephone: (202) 862-9700.

Application No.: 92-15A001.

Date Deemed Submitted: July 26, 2019

Proposed Amendment: AIA seeks to amend its Certificate as follows:

1. Add the following companies as new Members of the Certificate within the meaning of section 325.2(l) of the Regulations (15 CFR 325.2(l)):

• Air Liquide USA LLC; Houston, TX (controlling entity Air Liquide; Paris, France)

• Applied Composites; Lake Forest, CA

• Arch Tuscaloosa; Cottondale, AL (controlling entity Arch Global Precision; Bloomfield Hills, MI)

• Booz Allen Hamilton; McLean, VA

• Gamma Aerospace LLC; Mansfield, TX

• Global Partner Solutions LLC; Wichita, KS (controlling entity Global Partner Solutions Inc.; Dorval, Quebec, Canada)

• Hellen Systems LLC; Middleburg, VA

• Limco Airepair, Inc.; Tulsa, OK

• Stratolaunch Systems Corporation; Seattle, WA

• Vantage Associates; National City, CA

2. Delete the following companies as Members of AIA's Certificate:

• American Metal Bearing Company

• Cyient Ltd.

• EPTAM Plastics

• Facebook, Inc.

• Flight Safety International Inc

• Flextronics International USA, Inc.

• GKN Aerospace North America

• Information Services Group, Inc.

• ITT, Inc.

• Job Performance Associates, LLC

• JR Industries, Inc.

• LAI International, Inc.

• L-3 Communications Corporation

• The NORDAM Group, Inc.

• Omega Aerial Refueling Services, Inc.

• Orbital ATK, Inc.

• Pegasus Steel, LLC

• Rockwell Collins

• Universal Protection Services

• Wesco Aircraft Hardware Corporation

• Xerox

3. Change in name for the following Member:

• Altitude Industries in Overland Park, KS is now named Enjet Aero, LLC in Overland Park, KS

• Harris Corporation in Melbourne, FL, is now named L3Harris Technologies, Inc. in Melbourne, FL

AIA's proposed amendment of its Export Trade Certificate of Review would result in the following membership list:

• 3M Company; St. Paul, MN

• AAR Corp.; Wood Dale, IL

• Accenture; Chicago, IL

• Acutec Precision Aerospace, Inc.; Meadville, PA

• ACUTRONIC USA, Inc.; Pittsburgh, PA

• ADI American Distributors LLC; Randolph, NJ

• Advanced Logistics for Aerospace (ALA); New York, NY

• Aerion Corporation; Reno, NV

• Aernnova Aerospace; Ann Arbor, MI

• Aerojet Rocketdyne; Rancho Cordova, CA

• Aero-Mark, LLC; Ontario, CA

• Aero Metals Alliance; Northbrook, IL

• AeroVironment, Inc.; Monrovia, CA

• AGC Aerospace & Defense; Oklahoma City, OK

• Aireon LLC; McLean, VA

• Air Liquide USA LLC; Houston, TX

• AlixPartners, LLP; New York, NY

• Allied Telesis, Inc.; Bothell, WA

• Alta Devices, Inc.; Sunnyvale, CA

• Amazon.com, Inc.; Seattle, WA

• American Pacific Corporation; Las Vegas, NV

• Analytical Graphics, Inc.; Exton, PA

• Arch Tuscaloosa; Cottondale, AL

• Arconic Inc.; New York, NY

• Apex International Management Company; Daytona Beach, FL

• Applied Composites; Lake Forest, CA

• Astronautics Corporation of America; Milwaukee, WI

• Astronics Corporation, East Aurora, NY

• Athena Manufacturing, LP; Austin, TX

• AUSCO, Inc.; Port Washington, NY

• Avascent; Washington, D.C.

• B&E Group, LLC; Southwick, MA

• BAE Systems, Inc.; Rockville, MD

• Ball Aerospace & Technologies Corp.; Boulder, CO

• Belcan Corporation; Cincinnati, OH

• Benchmark Electronics, Inc.; Angleton, TX

• BWX Technologies, Inc.; Lynchburg, VA

• Bombardier; Montreal, Canada

• Boom Technology, Inc.; Denver, CO

• Booz Allen Hamilton; McLean, VA

• Boston Consulting Group; Boston, MA

• BRPH Architects Engineers, Inc.; Melbourne, FL

• Burns & McDonnell Engineering Corporation, Inc.; Kansas City, MO

• CADENAS PARTsolutions, LLC; Cincinnati, OH

• CAE USA; Tampa, FL

• Capgemini; New York, NY

• Celestica Inc.; Toronto, Canada

• Click Bond, Inc.; Carson City, NV

• Cobham; Arlington, VA

• CPI Aerostructures, Inc.; Edgewood, NY

• Crane Aerospace & Electronics; Lynnwood, WA

• Cubic Corporation, Inc.; San Diego, CA

• Cytec Engineered Materials, Inc.; Tempe, AZ

• Deloitte Consulting LLP; New York, NY

• Delta Flight Products; Atlanta, GA

• Denison Industries, Inc.; Denison, TX

• Ducommun Incorporated; Carson, CA

• DuPont Company; New Castle, DE

• DXC Technology Company, Tysons Comer, VA

• Eaton Corporation; Cleveland, OH

• Elbit Systems of America, LLC; Fort Worth, TX

• Embraer Aircraft Holding Inc.; Fort Lauderdale, FL

• Enjet Aero, LLC; Overland Park, KS

• EPS Corporation; Tinton Falls, NJ

• Ernst & Young LLP; New York, NY

• Esterline Technologies; Bellevue, WA

• Exostar LLC; Herndon, VA

• FS Precision Tech, Co. LLC; Compton, CA

• FTG Circuits, Inc.; Chatsworth, CA

• Gamma Aerospace LLC; Mansfield, TX

• Garmin International, Inc.; Olathe, KS

• General Atomics Aeronautical Systems, Inc.; Poway, CA

• General Dynamics Corporation; Falls Church, VA

• General Electric Aviation; Cincinnati, OH

• Global Partner Solutions, LLC; Wichita, KS

• Google, LLC; Mountain View, CA

• GSE Dynamics, Inc.; Hauppauge, NY

• HCL America Inc.; Sunnyvale, CA

• HEICO Corporation; Hollywood, FL

• Hellen Systems LLC; Middleburg, VA

• Hexcel Corporation; Stamford, CT

• Honeywell Aerospace; Phoenix, AZ

• Huntington Ingalls Industries, Inc.; Newport News, VA

• IBM Corporation; Armonk, NY

• Integral Aerospace, LLC; Santa Ana, CA

• Iron Mountain, Inc.; Boston, MA

• Jabil Defense & Aerospace Services LLC; St. Petersburg, FL

• Kaman Aerospace Corporation; Bloomfield, CT

• KPMG LLP; New York, NY

• Kratos Defense & Security Solutions, Inc.; San Diego, CA

• L3Harris Technologies, Inc.; Melbourne, FL

• Leidos, Inc; Reston, VA

• Limco Airepair, Inc.; Tulsa, OK

• Lockheed Martin Corporation; Bethesda, MD

• Lord Corporation; Cary, NC

• LS Technologies, LLC; Fairfax, VA

• Mantech International Corporation; Fairfax, VA

• Marotta Controls, Inc.; Montville, NJ

• Meggitt-USA, Inc.; Simi, CA

• Mercury Systems, Inc.; Andover, MA

• Microsemi Corporation; Aliso Viejo, CA

• Momentum Aviation Group; Woodbridge, VA

• MOOG Inc.; East Aurora, NY

• MTorres Americas; Bothell, WA

• National Technical Systems, Inc.; Calabasas, CA

• NEO Tech.; Chatsworth, CA

• Net-Inspect, LLC; Kirkland, WA

• New England Air Foil Products, Inc.; Farmington, CT

• Nokia US; Murray Hill, NJ

• Norsk Titanium US Inc.; Plattsburgh, NY

• Northrop Grumman Corporation; Los Angeles, CA

• O'Neil & Associates, Inc.; Miamisburg, OH

• Pacific Design Technologies; Goleta, CA

• Parker Aerospace; Irvine, CA

• Plexus Corporation; Neenah, WI

• PPG Aerospace-Sierracin Corporation; Sylmar, CA

• PrecisionHawk Inc.; Raleigh, NC

• Primus Aerospace; Lakewood, CO

• Primus Technologies Corporation; Williamsport, PA

• PTC Inc.; Needham, MA

• PWC Aerospace & Defense Advisory Services; McLean, VA

• Range Generation Next LLC; Sterling, VA

• Raytheon Company; Waltham, MA

• Rhinestahl Corporation; Mason, OH

• Rix Industries; Benecia, CA

• Rolls-Royce North America Inc.; Reston, VA

• salesforce.com, inc.; San Francisco, CA

• SAP America, Inc.; Newtown Square, PA

• Securitas Critical Infrastructure Services, Inc.; Springfield, VA

• Siemens PLM Software; Plano, TX

• Sierra Nevada Corporation, Space Systems; Littleton, CO

• Sparton Corporation; Schaumburg, IL

• Special Aerospace Services, LLC; Boulder, CO

• Spirit AeroSystems; Wichita, KS

• Stratolaunch Systems Corporation; Seattle, WA

• SupplyOn North America, Inc.; San Diego, CA

• Tech Manufacturing, LLC; Wright City, MO

• Textron Inc.; Providence, RI

• The Aerospace Corporation, Civil Systems Group; El Segundo, CA

• The Boeing Company; Chicago, IL

• The Lundquist Group LLC; New York, NY

• The Padina Group, Inc.; Lancaster, PA

• Therm, Incorporated; Ithaca, NY

• Tip Technologies; Waukesha, WI

• Tribus Aerospace Corporation; Poway, CA

• TriMas Aerospace; Los Angeles, CA

• Triumph Group, Inc.; Wayne, PA

• TT Electronics; Perry, OH

• Unitech Aerospace; Hayden, ID

• United Technologies Corporation; Hartford, CT

• Vantage Associates; National City, CA

• Verify, Inc.; Irvine, CA

• Virgin Galactic, LLC; Las Cruces, NM

• Woodward, Inc.; Fort Collins, CO

Dated: August 5, 2019.
Joseph Flynn,
Director, Office of Trade and Economic Analysis, International Trade Administration, U.S. Department of Commerce.

[FR Doc. 2019-17040 Filed 8-8-19; 8:45 am]

BILLING CODE 3510-DR-P